DEPARTMENT OF TRANSPORTATION

Federal Aviation Administration

Adoption of the Missile Defense Agency's Final Environmental Impact Statement for Long Range Discrimination Radar (LRDR) Operations, Clear Air Force Station, Alaska (CAFS), and Record of Decision for Federal Aviation Administration Actions To Accommodate Testing and Operation of the LRDR at CAFS Under the Missile Defense Agency's Modified Operational Concept

AGENCY: Federal Aviation Administration (FAA), Department of Transportation.

ACTION: Notice of availability.

SUMMARY: This notice announces the availability of the FAA's Adoption of the Missile Defense Agency's Final Environmental Impact Statement for Long Range Discrimination Radar (LRDR) Operations, Clear Air Force Station, Alaska (CAFS), and Record of Decision for Federal Aviation Administration Actions to Accommodate Testing and Operation of the LRDR at CAFS under the Missile Defense Agency's Modified Operational Concept (“the Adoption/ROD”). The Adoption/ROD documents: (1) The FAA's adoption of the Missile Defense Agency's (MDA) Environmental Impact Statement (EIS) for Long Range Discrimination Radar (LRDR) Operations, Clear Air Force Station (CAFS), Alaska; and (2) the FAA's decision to establish additional restricted areas to protect aviation from high-intensity radiated fields (HIRF) generated during the LRDR testing and operation, implement temporary flight restrictions (TFR) until the restricted areas are in effect, and make changes to federal airways and instrument flight procedures to accommodate the new restricted areas.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

The MDA prepared an EIS to evaluate the potential environmental impacts associated with the MDA's proposed modification of operational requirements and procedures for the LRDR located at CAFS, Alaska.¹ The change in the LRDR operation procedures would create a hazard in areas of the National Airspace System where the HIRF from the LRDR operations would exceed FAA certification standards for aircraft electrical and electronic systems. The EIS also evaluated the potential environmental impacts of the following actions proposed by the FAA to address this hazard: (1) Establishment of six additional restricted areas in the vicinity of CAFS; (2) implementation of TFRs until the restricted areas are in effect; and (3) changes to federal airways and instrument flight procedures to accommodate the new restricted areas. As a cooperating agency on the EIS, the FAA coordinated closely with the MDA and actively participated in the preparation of the EIS. In accordance with FAA Order 1050.1F, Environmental Impacts: Policies and Procedures, and regulations and guidance of the Council on Environmental Quality, the FAA conducted an independent evaluation and analysis of the EIS and adopted it for the purpose of making a decision on its proposed actions. The FAA's adoption and decision are documented in the Adoption/ROD.

¹ The Draft EIS and the Final EIS are available on the U.S. Environmental Protection Agency's EIS database at https://cdxnodengn.epa.gov/cdx-enepa-II/public/action/eis/search/search#results and on MDA's website at https://www.mda.mil/system/lrdr (accessed June 30, 2021).

Notice of Availability

The Adoption/ROD is available on the FAA's website at https://www.faa.gov/air_traffic/environmental_issues/media/alaska_eis.pdf and upon request by contacting Paula Miller at: Airspace Policy and Regulations Group, Office of Airspace Services, Federal Aviation Administration, 800 Independence Avenue SW, Washington, DC 20591; telephone: (202) 267-7378.

Right of Appeal

The FAA's Adoption/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110. Any party seeking to stay implementation of the Adoption/ROD must file an application with the FAA prior to seeking judicial relief as provided in Rule 18(a) of the Federal Rules of Appellate Procedure.

Issued in Des Moines, Washington, on August 17, 2021.
B.G. Chew,
Acting Group Manager, Operations Support Group, Western Service Center.

[FR Doc. 2021-17962 Filed 8-20-21; 8:45 am]

BILLING CODE 4910-13-P